DEPARTMENT OF VETERANS AFFAIRS

[OMB Control No. 2900-0768]

Proposed Information Collection (Joint Application for Comprehensive Assistance and Support Services for Family Caregivers); Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to determine Veterans and their caregivers' eligibility to participate in the Family Caregivers Program.

DATES: Written comments and recommendations on the proposed collection of information should be received on or before August 15, 2011.

ADDRESSES: Submit written comments on the collection of information through the Federal Docket Management System (FDMS) at http://www.regulations.gov; or to Cynthia Harvey-Pryor, Veterans Health Administration (193E1), Department of Veterans Affairs, 810 Vermont Avenue, NW., Washington, DC 20420 or e-mail: cynthia.harvey-pryor@va.gov. Please refer to “OMB Control No. 2900-0768” in any correspondence. During the comment period, comments may be viewed online through FDMS.

FOR FURTHER INFORMATION CONTACT: Cynthia Harvey-Pryor (202) 461-5870 or Fax (202) 273-9387.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Joint Application for Comprehensive Assistance and Support Services for Family Caregivers, VA Form 10-10-10CG.

OMB Control Number: 2900-0768.

Type of Review: Extension of a currently approved collection.

Abstract: VA Form 10-10CG is completed by Veterans who served in Operation Enduring Freedom/Operation Iraqi Freedom/Operation New Dawn or active duty service member undergoing medical discharge to determine their eligibility to receive certain medical, travel, training, and financial benefits under the Caregiver Program. Individuals designated as primary or secondary family caregiver also complete VA Form 10-10CG to determine whether they meet the criteria to serve as caregiver and their eligibility receive stipend and certain benefits under the Caregiver Program.

Affected Public: Individuals or households.

Estimated Total Annual Burden: 1,250 hours.

Estimated Average Burden per Respondent: 15 minutes.

Frequency of Response: On occasion.

Estimated Number of Respondents: 5,000.

Dated: June 9, 2011.
By direction of the Secretary.
Denise McLamb,
Program Analyst, Enterprise Records Service.

[FR Doc. 2011-14677 Filed 6-13-11; 8:45 am]

BILLING CODE 8320-01-P